DEPARTMENT OF ENERGY

Federal Energy Regulatory Commission

Combined Notice of Filings #1

Take notice that the Commission received the following electric corporate filings:

Docket Numbers: EC18-14-000.

Applicants: Red Pine Wind Project, LLC.

Description: Application for Authorization under Section 203 of the Federal Power Act and Request for Expedited Consideration and Confidential Treatment of Red Pine Wind Project, LLC.

Filed Date: 11/9/17.

Accession Number: 20171109-5213.

Comments Due: 5 p.m. ET 11/30/17.

Docket Numbers: EC18-15-000.

Applicants: Rock Falls Wind Farm LLC.

Description: Application for Authorization under Section 203 of the Federal Power Act and Request for Expedited Consideration and Confidential Treatment of Rock Falls Wind Farm LLC.

Filed Date: 11/9/17.

Accession Number: 20171109-5215.

Comments Due: 5 p.m. ET 11/30/17.

Docket Numbers: EC18-16-000.

Applicants: Backbone Mountain Windpower LLC, Diablo Winds, LLC, FPL Energy Cabazon Wind, LLC, Meyersdale Windpower, LLC, Mill Run Windpower LLC, Somerset Windpower LLC, Waymart Wind Farm L.P., FPL Energy National Wind Portfolio, LLC, Legacy Holdings Ventures, LLC, Huntsman Wind, LLC.

Description: Application for Approval under Section 203 of the FPA and Requests for Waiver of Filing Requirements, Privileged and Confidential Treatment, a Shortened Comment Period and Expedited Action of Backbone Mountain Windpower LLC, et. al.

Filed Date: 11/9/17.

Accession Number: 20171109-5220.

Comments Due: 5 p.m. ET 11/30/17.

Docket Numbers: EC18-17-000.

Applicants: PPL Electric Utilities Corporation, Louisville Gas & Electric Company, Kentucky Utilities Company, LG&E Energy Marketing Inc., Electric Energy Inc., Midwest Electric Power, Inc.

Description: Application for Authorization Under Section 203 of the FPA and Requests for Waivers of Filing Requirements, Shortened Comment Period and Expedited Consideration of PPL Electric Utilities Corporation, et al.

Filed Date: 11/9/17.

Accession Number: 20171109-5226.

Comments Due: 5 p.m. ET 11/30/17.

Take notice that the Commission received the following electric rate filings:

Docket Numbers: ER10-2351-008; ER11-2107-014; ER11-2108-014; ER14-1668-006; ER14-1669-006; ER14-1674-006; ER14-1670-006; ER14-1671-006; ER14-1675-006; ER14-1673-006; ER14-1676-006; ER14-1677-006; ER14-1678-006; ER14-1679-006; ER14-1672-006.

Applicants: Jeffers Wind 20, LLC, North Community Turbines LLC, North Wind Turbines LLC, Community Wind North 1 LLC, Community Wind North 2 LLC, Community Wind North 3 LLC, Community Wind North 5 LLC, Community Wind North 6 LLC, Community Wind North 7 LLC, Community Wind North 8 LLC, Community Wind North 9 LLC, Community Wind North 10 LLC, Community Wind North 11 LLC, Community Wind North 13 LLC, Community Wind North 15 LLC

Description: Notice of Change in Status of Jeffers Wind 20, LLC, et. al.

Filed Date: 11/9/17.

Accession Number: 20171109-5233.

Comments Due: 5 p.m. ET 11/30/17.

Docket Numbers: ER10-2881-031 ER10-2882-033; ER10-2884-031; ER10-2883-031; ER10-2885-031; ER10-2641-030; ER10-2663-031; ER10-1874-005; EL18-21-000.

Applicants: Alabama Power Company, Southern Power Company, Georgia Power Company, Mississippi Power Company, Gulf Power Company, Oleander Power Project, Limited Partnership, Southern Company—Florida LLC, Mankato Energy Center, LLC, SG2 Imperial Valley, LLC.

Description: Response of Southern Company Services, Inc. to the October 25, 2017 Order.

Filed Date: 11/13/17.

Accession Number: 20171113-5203.

Comments Due: 5 p.m. ET 12/4/17.

Docket Numbers: ER10-2964-014.

Applicants: Selkirk Cogen Partners, L.P.

Description: Addendum to June 30, 2017 Triennial Market Power Update of Selkirk Cogen Partners, L.P.

Filed Date: 11/13/17.

Accession Number: 20171113-5173.

Comments Due: 5 p.m. ET 12/4/17.

Docket Numbers: ER17-2478-001.

Applicants: Palmco Power NH, LLC.

Description: Tariff Amendment: Modify Tariff Language to be effective 11/13/2017.

Filed Date: 11/9/17.

Accession Number: 20171109-5185.

Comments Due: 5 p.m. ET 11/30/17.

Docket Numbers: ER17-2479-001.

Applicants: Palmco Power OH, LLC.

Description: Tariff Amendment: Modify Tariff Language to be effective 11/13/2017.

Filed Date: 11/9/17.

Accession Number: 20171109-5192.

Comments Due: 5 p.m. ET 11/30/17.

Docket Numbers: ER17-2480-001.

Applicants: Palmco Power RI, LLC.

Description: Tariff Amendment: Modify Tariff Language to be effective 11/13/2017.

Filed Date: 11/9/17.

Accession Number: 20171109-5193.

Comments Due: 5 p.m. ET 11/30/17.

Docket Numbers: ER17-2482-001.

Applicants: Palmco Power NJ, LLC.

Description: Tariff Amendment: Modify Tariff Language to be effective 11/13/2017.

Filed Date: 11/9/17.

Accession Number: 20171109-5186.

Comments Due: 5 p.m. ET 11/30/17.

Docket Numbers: ER17-2483-001.

Applicants: Palmco Power VA, LLC.

Description: Tariff Amendment: Modify Tariff Language to be effective 11/13/2017.

Filed Date: 11/9/17.

Accession Number: 20171109-5194.

Comments Due: 5 p.m. ET 11/30/17.

Docket Numbers: ER17-2486-001.

Applicants: Palmco Power NY, LLC.

Description: Tariff Amendment: Modify Tariff Language to be effective 11/13/2017.

Filed Date: 11/9/17.

Accession Number: 20171109-5187.

Comments Due: 5 p.m. ET 11/30/17.

Docket Numbers: ER18-280-000.

Applicants: Lee County Generating Station, LLC.

Description: § 205(d) Rate Filing: Notice of Succession to be effective 11/24/2017.

Filed Date: 11/9/17.

Accession Number: 20171109-5195.

Comments Due: 5 p.m. ET 11/30/17.

Docket Numbers: ER18-281-000.

Applicants: PJM Interconnection, L.L.C.

Description: § 205(d) Rate Filing: Interconnection Service Agreement No. 3324, Queue No. AB1-033 to be effective 10/13/2017.

Filed Date: 11/13/17.

Accession Number: 20171113-5166.

Comments Due: 5 p.m. ET 12/4/17.

Docket Numbers: ER18-282-000

Applicants: Duke Energy Carolinas, LLC, Duke Energy Progress, LLC.

Description: Notices of Cancellation of Duke Energy Carolinas, LLC and Duke Energy Progress, LLC of Jurisdictional Transmission Service Agreements.

Filed Date: 11/13/17.

Accession Number: 20171113-5174.

Comments Due: 5 p.m. ET 12/4/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2017.
Kimberly D. Bose,
Secretary.

[FR Doc. 2017-25082 Filed 11-17-17; 8:45 am]

BILLING CODE 6717-01-P